DEPARTMENT OF TRANSPORTATION

Federal Aviation Administration

14 CFR Part 71

[Docket No. FAA-2014-0076; Airspace Docket No. 14-ANE-4]

Proposed Amendment of Class E Airspace; Bridgeport, CT

AGENCY: Federal Aviation Administration (FAA), DOT.

ACTION: Notice of proposed rulemaking (NPRM), withdrawal.

SUMMARY: A Notice of proposed rulemaking (NPRM) published in the Federal Register on March 18, 2014 amending Class E airspace at Igor I. Sikorsky Memorial Airport is being withdrawn. Upon review, the FAA found that the Bridgeport VOR has not been decommissioned, and therefore airspace reconfiguration is not required.

DATES: Effective 0901 UTC. As of April 2, 2014 the proposed rule published March 18, 2014, at 79 FR 15064, is withdrawn.

FOR FURTHER INFORMATION CONTACT: John Fornito, Operations Support Group, Eastern Service Center, Federal Aviation Administration, P.O. Box 20636, Atlanta, Georgia 30320; telephone (404) 305-6364.

SUPPLEMENTARY INFORMATION:

History

On March 18, 2014, the FAA published in the Federal Register a NPRM to amend Class E airspace at Bridgeport, CT (79 FR 15064) Docket No. FAA-2014-0076. Subsequent to publication the FAA found that the Bridgeport VOR navigation aid has not been decommissioned and airspace redesign is not necessary. This proposed rule is being withdrawn.

Lists of Subjects in 14 CFR Part 71

Airspace, Incorporation by reference, Navigation (air).

The Withdrawal

Accordingly, pursuant to the authority delegated to me, the notice of proposed rulemaking, as published in the Federal Register on March 18, 2014 (79 FR 15064) (FR Doc. 2014-05889), is hereby withdrawn.

Authority: 49 U.S.C. 106(g); 40103, 40113, 40120; E.O. 10854, 24 FR 9565, 3 CFR, 1959-1963 Comp., p. 389.

Issued in College Park, Georgia, on March 25, 2014.
Eric Fox,
Acting Manager, Operations Support Group, Eastern Service Center, Air Traffic Organization.

[FR Doc. 2014-07291 Filed 4-1-14; 8:45 am]

BILLING CODE 4910-13-P